DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Larimer County, Colorado, and Incorporated Areas
Docket No.: B-7734 & D-7818
Dry Creek (North of Canal) | Just upstream of the confluence with Larimer and Weld Canal | +4993 | Unincorporated Areas of Larimer County.
| Approximately 900 feet downstream of Shields Street | +5016
Dry Creek (South of Canal) | Just upstream of the confluence with the Cache La Poudre River | +4916 | City of Fort Collins, Unincorporated Areas of Larimer County.
| Approximately 850 feet upstream of Redwood Street | +4964
East Vine Diversion | Just upstream of the confluence with Dry Creek (South of Canal) | +4944 | City of Fort Collins, Unincorporated Areas of Larimer County.
| Just downstream of Larimer and Weld Canal | +4983
East Vine Diversion—Left Overbank Flow | Just upstream of Vine Drive | +4944 | City of Fort Collins, Unincorporated Areas of Larimer County.
| Approximately 1900 feet upstream of Vine Drive | +4948
Larimer and Weld Canal | At the confluence with East Vine Diversion | +4983 | City of Fort Collins, Unincorporated Areas of Larimer County.
| At the upstream diversion from Dry Creek (North of Canal) | +4993
Old Dry Creek (Historic Channel) | Just downstream of Mulberry Street | +4919 | Unincorporated Areas of Larimer County.
| Approximately 800 feet downstream of Dry Creek (South of Canal) | +4930
* National Geodetic Vertical Datum.
+ North American Vertical Datum.
# Depth in feet above ground.
ADDRESSES
City of Fort Collins
Maps are available for inspection at Stormwater Utilities Department, 700 Wood Street, Fort Collins, CO 80521.
Unincorporated Areas of Larimer County
Maps are available for inspection at 200 West Oak Street, Fort Collins, CO 80521.
Baker County, Florida, and Incorporated Areas
Docket No.: FEMA-B-7724
Barber Bay Tributary | At confluence with South Prong Saint Marys River | +85 | City of Macclenny.
| At confluence with South Prong Saint Marys River | +85
| 1100 feet upstream of County Road 228 | +124
| 3000 Feet upstream of County Road 228 | +128
South Prong Saint Marys River | 6459 feet downstream from the confluence with Barber Bay Tributary | +79 | Baker County (Unincorporated Areas).
| 8800 feet upstream from the confluence with South Prong St. Marys River Tributary 8 | +100
South Prong Saint Marys River, Tributary 8 | At confluence with South Prong Saint Marys River | +97 | Baker County (Unincorporated Areas).
Turkey Creek | At confluence with South Prong Saint Marys River | +94 | Baker County (Unincorporated Areas).
| 1680 feet upstream of the confluence with Turkey Creek Tributary 2 | +111
| 1250 feet upstream of Barber Road | +116
| 810 feet downstream of Barber Road | +117
| At confluence with Turkey Creek | +95 | Baker County (Unincorporated Areas).
Tributary 1 | 8960 feet upstream of State Highway 121 | +138
Tributary 1.1 | At confluence with Turkey Creek Tributary 1.1 | +98 | Baker County/Unincorporated Areas).
| 1190 feet upstream of Woodlawn Road | +117
| 1280 feet upstream of Woodlawn Road | +118
| 1940 feet upstream of Woodlawn Road | +119
Tributary 2 | At confluence with Turkey Creek | +109 | City of Macclenny.
| 3080 feet upstream of the confluence with Turkey Creek Tributary 2.1 | +125
| 3080 feet upstream of the confluence with Turkey Creek Tributary 2.1 | +125
| 145 feet upstream of U.S. Highway 90 | +129
| At Interstate 10 | +129
Tributary 2.1 | At confluence with Turkey Creek Tributary 2 | +115 | City of Macclenny.
| At Powerline Road | +122
| At Powerline Road | +122
| 3040 feet upstream of Canal Road | +132
* National Geodetic Vertical Datum.
+ North American Vertical Datum.
# Depth in feet above ground.
ADDRESSES
City of Macclenny
Maps are available for inspection at 32 South 5th Street, Macclenny, FL 32063.
Baker County (Unincorporated Areas)
Maps are available for inspection at 55 North 3rd Street, Macclenny, FL 32063.
Hancock County, Kentucky, and Incorporated Areas
Docket No.: FEMA-B-7715
Ohio River | Daviess County Line | +392 | City of Hawesville.
| Breckinridge County Line | +407 | City of Lewisport Hancock County (Unincorporated Areas).
* National Geodetic Vertical Datum.
+ North American Vertical Datum.
# Depth in feet above ground.
ADDRESSES
City of Hawesville
Maps are available for inspection at 385 Main Street, Hawesville, KY 42348.
City of Lewisport
Maps are available for inspection at 590 Old Mill Road, Lewisport, KY 42351.
Hancock County (Unincorporated Areas)
Maps are available for inspection at 385 Main Street, Hawesville, KY 42348.
Santa Fe County, New Mexico and Incorporated Areas
Docket No.: FEMA-B-7470
Admin Arroyo | At the confluence of Admin Arroyo and Rio Tesuque | +6291 | Santa Fe County (Unincorporated Areas).
| Approximately 4000 feet upstream of the intersection of Admin Arroyo and Highway 84 | +6509
Arroyo Saiz | Confluence of Arroyo Saiz and Santa Fe River | +7033 | City of Santa Fe, Santa Fe County (Unincorporated Areas).
| Approximately 4600 feet upstream from confluence with Santa Fe River | +7171
Arroyo Seco | Approximately 2500 feet upstream of the intersection of Highway 399 (106) and Jara Lane | +5640 | Santa Fe County (Unincorporated Areas).
| Intersection of Arroyo Seco and Highway 84/285 | +5723
Batchelor Draw | Intersection of Batchelor Draw and Abajo Drive | +6622 | Santa Fe County (Unincorporated Areas).
| Intersection of Batchelor Draw and Quiet Valley Loop | +6693
Pojoaque River | Approximately 2300 feet upstream from confluence with Rio Grande | +5543 | Santa Fe County (Unincorporated Areas).
| Confluence of the Pojoaque River and Pojoaque Creek | +5774
Rio Tesuque | At the confluence of Rio Tesuque and Pojoaque Creek | +5783 | Santa Fe County (Unincorporated Areas).
| Downstream face of intersection of Rio Tesuque and Highway 502 | +5811
Santa Fe River | Approximately 2000 feet downstream from the intersection of Sante Fe River and Paseo Real | +6261 | City of Santa Fe, Santa Fe County (Unincorporated Areas).
| Approximately 300 feet upstream from intersection of Santa Fe River and Cerro Gordo Road | +7290
* National Geodetic Vertical Datum.
+ North American Vertical Datum.
# Depth in feet above ground.
ADDRESSES
City of Santa Fe
Maps are available for inspection at 200 Lincoln Ave., P.O. Box 909, Santa Fe, NM 87504.
Unincorporated Areas of Santa Fe County
Maps are available for inspection at Santa Fe County Courthouse, 102 Grant Ave., Santa Fe, NM 87504.
Franklin County, Ohio, and Incorporated Areas
Docket No.: FEMA-B-7725
Whims Ditch | 950 feet upstream of Little Avenue | +704 | City of Columbus. Franklin County (Unincorporated Areas).
| At Frank Road | +704
* National Geodetic Vertical Datum.
+ North American Vertical Datum.
# Depth in feet above ground.
ADDRESSES
City of Bexley
Maps are available for inspection at 2242 East Main Street, Bexley, OH 43215.
City of Columbus
Maps are available for inspection at 757 Carolyn Avenue, Columbus, OH 43224.
City of Dublin
Maps are available for inspection at 5800 Shier-Rings Road, Dublin, OH 43016.
City of Gahanna
Maps are available for inspection at 200 Hamilton Road, Gahanna, OH 43230.
City of Grandview Heights
Maps are available for inspection at 1016 Grandview Avenue, Grandview Heights, OH 43212.
City of Grove City
Maps are available for inspection at 4035 Broadway, Grove City, OH 43123.
City of Hilliard
Maps are available for inspection at 3800 Municipal Way, Hilliard, OH 43026.
City of Reynoldsburg
Maps are available for inspection at 7232 East Main Street, Reynoldsburg, OH 43068.
City of Upper Arlington
Maps are available for inspection at 3600 Tremont Road, Upper Arlington, OH 43220.
City of Westerville
Maps are available for inspection at 64 East Walnut Street, Westerville, OH 43081.
City of Whitehall
Maps are available for inspection at 360 S. Yearling Road, Whitehall, OH 43213.
City of Worthington
Maps are available for inspection at 374 Highland Avenue, Worthington, OH 43085.
Franklin County (Unincorporated Areas)
Maps are available for inspection at 280 East Broad Street, Room 202, Columbus, OH 43215.
Village of Brice
Maps are available for inspection at 5990 Columbus Street, Brice, OH 43109.
Village of Canal Winchester
Maps are available for inspection at 36 South High Street, Canal Winchester, OH 43110.
Village of Groveport
Maps are available for inspection at 655 Blacklick Street, Groveport, OH 43125.
Village of Harrisburg
Maps are available for inspection at 1100 High Street, Harrisburg, OH 43126.
Village of Lithopolis
Maps are available for inspection at 33 N. Market Street, Lithopolis, OH 43136.
Village of Lockbourne
Maps are available for inspection at 99 Williams Street, Lockbourne, OH 43137.
Village of Marble Cliff
Maps are available for inspection at 1600 Fernwood Avenue, Marble Cliff, OH 43212.
Village of New Albany
Maps are available for inspection at 99 W. Main Street, New Albany, OH 43054.
Village of Obetz
Maps are available for inspection at 4175 Alum Creek Drive, Obetz, OH 43207-5140.
Village of Riverlea
Maps are available for inspection at 229 W. Southington Avenue, Worthington, OH 43085.
Village of Urbancrest
Maps are available for inspection at 3492 First Avenue, Urbancrest, OH 43123.
Village of Valleyview
Maps are available for inspection at 432 N. Richardson Avenue, Valleyview, OH 43204.
Clackamas County, Oregon, and Incorporated Areas
Docket No.: FEMA-B-7725
Lake Oswego | Lake Oswego | +107 | City of Lake Oswego.
Oswego Canal | At the confluence with Oswego | +107 | Clackamas County (Unincorporated Areas).
| Approximately 1500 feet upstream of Childs Road | +125 | City of Lake Oswego.
Richardson Creek | At the confluence with Richardson Creek | +302 | City of Damascus.
Anderson RD Tributary | 50 feet upstream of SE Sunnyside Road | +533
Richardson Creek | At the confluence with Richardson Creek | +402 | City of Damascus.
Royer Road Tributary | Approximately 2200 feet upstream of confluence with Richardson Creek | +448
Richardson Creek | At the Confluence with Richardson Creek | +164 | Clackamas County (Unincorporated Areas).
Keller Road Tributary | Approximately 200 feet upstream of SE Keller Road | +378 | City of Damascus.
Richardson Creek | At the confluence with Clackamas River | +116 | Clackamas County (Unincorporated Areas).
| Just upstream of State Highway 212 | +590 | City of Damascus.
Rock Creek | At the confluence with Clackamas River | +94 | Clackamas County (Unincorporated Areas), City of Damascus.
| Approximately 100 feet upstream of SE Bohna Park Road | +453 | City of Happy Valley.
Rock Creek 172nd Avenue Tributary | At the confluence with Rock Creek | +231 | Clackamas County (Unincorporated Areas).
| Approximately 150 feet upstream of SE Big Timber Lane | +328 | City of Happy Valley.
Rock Creek Hemrick Road Tributary | At the confluence with Rock Creek | +315 | Clackamas County (Unincorporated Areas), City of Damascus.
| Approximately 200 feet upstream of SE Tillstrom Road | +407 | City of Happy Valley.
Rock Creek Highway 224 Tributary | At confluence with Rock Creek | +94 | City of Happy Valley.
| Approximately 150 feet upstream of Goosehollow Drive | +213 | City of Damascus.
Rock Creek N Golf Course Tributary | At the confluence with Rock Creek | +302 | Clackamas County (Unincorporated Areas).
| Approximately 50 feet upstream of SE 162nd Avenue | +381 | City of Happy Valley.
Rock Creek S Golf Course Tributary | At confluence with Rock Creek | +293 | City of Happy Valley.
| Approximately 50 feet upstream of SE 162nd Avenue | +383
Tualatin River | At the confluence with Willamette River | +75 | Clackamas County (Unincorporated Areas), City of Lake Oswego.
| Just downstream of R. H. Baldock Freeway | +127 | City of Rivergrove, City of West Linn.
Tualatin River Overflow to Rivergrove | Approximately 1,000 feet downstream of Childs Road | +121 | Clackamas County (Unincorporated Areas), City of Rivergrove.
| At the intersection of Marlin Avenue and Southeast Dogwood Drive | +125
* National Geodetic Vertical Datum.
+ North American Vertical Datum.
# Depth in feet above ground.
ADDRESSES
City of Damascus
Maps are available for inspection at Damascus City Hall, 19920 Highway 212, Damascus, OR 97089.
City of Happy Valley
Maps are available for inspection at Michael Walter Planning Services Manager, 12915 SE King Road, Happy Valley, OR 97086.
City of Lake Oswego
Maps are available for inspection at Rob D. Amsberry Surface Water Management, 380 A Avenue, Lake Oswego, OR 97034.
City of Rivergrove
Maps are available for inspection at Larry Barrett City Manager, 5311 Childs Road, Lake Oswego, OR 97035.
City of West Linn
Maps are available for inspection at City Hall, 22500 Salamo Road, West Linn, OR 97068.
Clackamas County (Unincorporated Areas)
Maps are available for inspection at Steve F. Hanschka Floodplain Administrator Sunnybrook Service Center, 9101 SE Sannybrook Boulevard, Clackamas, OR 97015.

(Catalog of Federal Domestic Assistance No. 97.022, “Flood Insurance.”)

Dated: January 3, 2008.
David I. Maurstad,
Federal Insurance Administrator of the National Flood Insurance Program, Department of Homeland Security, Federal Emergency Management Agency.

[FR Doc. E8-692 Filed 1-15-08; 8:45 am]

BILLING CODE 9110-12-P